DEPARTMENT OF ENERGY

Federal Energy Regulatory Commission

[Docket No. CP01-49-002]

Northwest Pipeline Corporation; Notice of Intent To Prepare a Supplemental Environmental Assessment for the Amended Everett Delta Project and Request for Comments on Environmental Issues

September 3, 2003.

On October 25, 2001, the Commission issued Northwest Pipeline Corporation (Northwest) a certificate of public convenience and necessity for the Everett Delta Lateral Project (Order). We ¹ prepared an environmental assessment (EA) and on August 10, 2001, we issued a notice of availability for comment on the EA. Comments received on the EA were addressed in the Order authorizing construction and operation of the Everett Delta Project, subject to Northwest's compliance with the environmental conditions. As currently certificated, the Everett Delta Lateral Project in Snohomish County, Washington,² includes approximately 9 miles of 20-inch-diameter lateral pipeline, two delivery stations, and related facilities to provide transportation deliveries from Northwest's mainline to serve a planned Northwest Power Company power plant in Everett, Washington, and to provide additional service to a local distribution company, Puget Sound Energy (PSE). After issuance of the Order for the project, the new power plant that was the anchor market for the project was canceled and the facility agreements underlying this project were terminated. Northwest and PSE then negotiated new commercial arrangements for a revised Everett Delta Lateral Project designed to serve only PSE's distribution system.

¹ “We”, “us”, and “our” refer to the environmental staff of the Office of Energy Projects (OEP).

² (Northwest's) application was filed with the Commission under Section 7 of the Natural Gas Act and part 157 of the Commission's regulations.

Northwest now requests the Commission to amend the certificate for the project to authorize Northwest to construct approximately 9.19 miles of 16-inch-diameter pipeline (on the certificated route with some variations), instead of 20-inch-diameter pipeline, one meter station, two delivery taps and related facilities designed to provide approximately 113 million decatherms per day of firm transportation service for PSE. The facility differences in the amendment versus the certificated project are: smaller diameter pipeline; 0.19 miles longer pipeline; one less meter station; and small changes to related facilities. We will study the amendments and determine if they are environmentally preferred over the certificated route.

The primary route change involves the certificated route crossing of Catherine Creek by horizontal directional drill (HDD) between mileposts (MPs) 1.2 and 1.52. Geotechnical investigations and site analysis subsequent to the Order have determined that the route through this area has less than a 25 percent probability of success, due to the amount of subsurface gravels and cobbles that would be encountered along the path of the HDD. Northwest has identified a route that would avoid the use of the Catherine Creek HDD—designated the Holly Lane Reroute. The reroute affects the proposed alignment between MPs 1.16 and 1.78 and crosses Catherine Creek at MP 1.32 where a culvert has already been installed. The majority of the reroute would be within the right-of-way of Callow Road and Holly Lane.

This Notice of Intent is to inform the public that staff of the Federal Energy Regulatory Commission (FERC or Commission) will prepare a supplemental EA that will discuss the environmental impacts of the Everett Delta Lateral involving construction and operation of facilities by Northwest in Snohomish County, Washington. The EA will focus on the amendments to determine if they affect our original conclusion that the project does not constitute a major Federal action significantly affecting the quality of the human environment. This EA will be used by the Commission in its decision-making process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Northwest provided to landowners. This fact sheet addresses a number of typically asked questions, including the use of eminent domain and how to participate in the Commission's proceedings. It is available for viewing on the FERC Internet Web site (http://www.ferc.gov).

Summary of the Proposed Project as Amended

Northwest proposes to construct:

• Approximately 9.19 miles of 16-inch-diameter pipeline in Snohomish County, Washington, which would tie-in with Northwest's existing mainline and mainline loop at milepost (MP) 1411.3 north of the City of Lake Stevens. The 16-inch-diameter lateral would extend from the interconnect with Northwest's existing system at MP 0.0 and extend to PSE in Everett, Washington;

• The Everett Delta Meter Station (MP 0.0);

• Two downstream delivery taps: the Soper Hill Tap (MP 4.4) and the Everett Tap (MP 9.19); and

• A pig launcher and two 12-inch mainline taps (MP 0.0), block valve assembly (MP 4.4), and a pig receiver (MP 9.19).

The general location of the project facilities is shown in appendix 1.³ If you are interested in obtaining detailed maps of a specific portion of the project, send in your request using the form in appendix 3.

³ The appendices referenced in this notice are not being printed in the Federal Register. Copies of all appendices, other than appendix 1 (maps), are available on the Commission's Web site at the “ eLibrary “ link or from the Commission's Public Reference Room, 888 First Street, NE., Washington, DC 20426, or call (202) 502-8371. For instructions on connecting to eLibrary refer to the last page of this notice. Copies of the appendices were sent to all those receiving this notice in the mail.

Land Requirements for Construction

In total, construction of the project would result in approximately 89 acres of disturbance. Permanent easement for the entire project would result in approximately 50 acres with the remaining 39 acres of land allowed to revert to its former use. A permanent easement is needed for long-term operation and maintenance requirements. Northwest would require a 50-foot-wide permanent easement for the project. The aboveground facilities would need a total of 0.95 acre. The amendments cause an increase in land use of 1.29 acres for construction (temporary) and 0.35 acre for operation (permanent easement) Construction of the lateral would primarily use a 75-foot-wide construction right-of-way. However, a number of areas would require the construction right-of-way to be reduced to less than 75 feet in width. In addition to the typical 75-foot-wide construction right-of-way, additional temporary extra work areas at specific locations such as road and railroad crossings, and waterbody and wetland crossings are required.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• Geology and soils

• Land use

• Water resources, fisheries, and wetlands

• Cultural resources

• Vegetation and wildlife

• Air quality and noise

• Endangered and threatened species

• Hazardous waste

• Public safety

We will also evaluate possible alternatives to the proposed changes in the project, and make recommendations on how to lessen or avoid impacts on the various resource areas.

Our independent analysis of the issues will be in the EA. Depending on the comments received during the scoping process, the EA may be published and mailed to Federal, state, and local agencies, public interest groups, interested individuals, affected landowners, newspapers, libraries, and the Commission=s official service list for this proceeding. A comment period will be allotted for review if the EA is published. We will consider all comments on the EA before we make our recommendations to the Commission.

To ensure your comments are considered, please carefully follow the instructions in the public participation section below.

Currently Identified Environmental Issues

The environmental issues for the certificated route were addressed in the August 10, 2001 EA. We have identified several additional issues that we think deserve attention based on a preliminary review of the amended facilities and the environmental information provided by Northwest. This preliminary list of issues may be changed based on your comments and our analysis.

• The project would be within 50 feet of 4 additional residences; and

• The crossing of Catherine Creek in the new proposed location.

Public Participation

You can make a difference by providing us with your specific comments or concerns about the project. By becoming a commentor, your concerns will be addressed in the EA and considered by the Commission. You should focus on the potential environmental effects of the change to the original proposal, alternatives to the proposal (including alternative routes), measures to avoid or lessen environmental impact, and how you believe these changes affect the original analysis. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP01-49-002.

• Mail your comments so that they will be received in Washington, DC on or before October 3, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-22863 Filed 9-8-03; 8:45 am]

BILLING CODE 6717-01-P